DEPARTMENT OF THE INTERIOR

Fish and Wildlife Service

Proposed Programmatic Safe Harbor Agreement for the Hawaiian Goose on the Island of Molokai, HI

AGENCY: Fish and Wildlife Service, Interior.

ACTION: Notice of availability.

SUMMARY: The State of Hawaii, Department of Land and Natural Resources, Division of Forestry and Wildlife (DOFAW) has applied to the Fish and Wildlife Service (Service) for an enhancement of survival permit pursuant to section 10(a)(1)(A) of the Endangered Species Act of 1973, as amended. The permit application includes a programmatic Safe Harbor Agreement (programmatic Agreement) between DOFAW and the Service. The programmatic Agreement and permit application are available for public comment.

The proposed programmatic Agreement allows for the protection of habitat for the endangered Hawaiian goose or nene (Branta sandvicensis) that may occupy or breed on private lands following the reintroduction of nene to Molokai in 2001 through the previously approved “Safe Harbor Agreement for the Reintroduction of the Nene to Puu O Hoku Ranch, Island of Molokai.” The proposed programmatic Agreement allows individual landowners to enroll in the program through a Certificate of Inclusion and Cooperative Agreement. The proposed duration of the Programmatic Agreement is 30 years; the proposed duration of the permit is 50 years.

The proposed permit would allow enrolled landowners to return to baseline conditions established in the Cooperative Agreement. We expect this Programmatic Agreement to result in a net conservation benefit by aiding and supporting the restoration of nene to the Island of Molokai.

The Service has made a preliminary determination that the proposed Programmatic Agreement and permit application are eligible for categorical exclusion under the National Environmental Policy Act of 1969. We explain the basis for this determination in an Environmental Action Statement, which also is available for public review.

We request comments from the public on the permit application, Agreement, and Environmental Action Statement. All comments we receive, including names and addresses, will become part of the administrative record and may be released to the public.

DATES: Written comments should be received on or before August 9, 2002.

ADDRESSES: Comments should be addressed to Mr. Paul Henson, Field Supervisor, U.S. Fish and Wildlife Service, P.O. Box 50088, Honolulu, Hawaii 96850; facsimile 808-541-3470.

FOR FURTHER INFORMATION CONTACT: Ms. Gina Shultz at the above address or telephone 808-541-3441.

SUPPLEMENTARY INFORMATION:

Document Availability

You may obtain copies of the documents for review by contacting the office named above. You also may make an appointment to view the documents at the above address during normal business hours.

Background

Under a Safe Harbor Agreement, participating property owners voluntarily undertake management activities on their property to enhance, restore, or maintain habitat benefitting species listed under the Endangered Species Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22(c).

We have worked with DOFAW to develop a programmatic Safe Harbor Agreement for the protection of habitat for the endangered Hawaiian goose or nene on the Island of Molokai, Hawaii. Under this Agreement, individual landowners enrolled in the program and/or DOFAW will: (1) Report the presence or absence of nene on their lands to DOFAW; (2) allow access to covered lands for management and monitoring of nene; (3) implement a program to control predators; (4) agree not to disturb nene nests until after the birds have hatched their eggs; (5) assist DOFAW with preparation of their annual report; and (6) identify other management actions in the Cooperative Agreement.

We anticipate that this Programmatic Agreement will result in the following benefits: (1) Increased probability that nene will expand their range onto lands outside of Puu O Hoku Ranch; (2) increased number of nene in the wild (anticipated up to 125 individuals on enrolled properties); (3) increased ability to monitor distribution, abundance, and reproductive success of Molokai's nene population; and (4) increased predator control in areas utilized by nene will address a key threat to nene.

Consistent with Safe Harbor policy, we propose to issue a permit to DOFAW authorizing them to enroll landowners (Cooperators) with Certificates of Inclusion under the Federal permit and State permit when Cooperators sign individual Cooperative Agreements that describe actions that will be taken to benefit nene. Thus, the Cooperators will be authorized for incidental take of nene and their progeny, which occur on the enrolled lands, as a result of lawful activities on enrolled lands, as long as baseline conditions are maintained and terms of the Cooperative Agreement are implemented. These activities may include, but are not limited to: (1) Driving vehicles; (2) building or fence construction; (3) grazing of livestock; (4) gardening; (5) forestry; (6) hunting; (7) farming; (8) mowing; and (9) cultivation of agricultural crops. We expect that the maximum level of incidental take authorized under this programmatic Agreement will never be realized. We anticipate that any nene taken when the proposed Programmatic Agreement expires will not be injured or harmed, but will be relocated, with permission from landowners, to other suitable lands. Therefore, the cumulative impact of this Programmatic Agreement and the activities it covers, which are facilitated by the allowable incidental take, will provide a net conservation benefit to nene.

We provide this notice pursuant to section 10(c) of the Endangered Species Act and pursuant to implementing regulations for the National Environmental Policy Act (40 CFR 1506.6). We will evaluate the permit application, associated documents, and comments submitted thereon to determine whether the permit application meets the requirements of section 10(a) of the Endangered Species Act and National Environmental Policy Act regulations. If we determine that the requirements are met, we will sign the programmatic Safe Harbor Agreement and issue an enhancement of survival permit under section 10(a)(1)(A) of the Endangered Species Act to DOFAW for take of nene incidental to otherwise lawful activities in accordance with the terms of the Agreement. We will not make our final decision until after the end of the 30-day comment period and will fully consider all comments received during the comment period.

Dated: June 19, 2002.
Rowan W. Gould,
Deputy Regional Director, Region 1.

[FR Doc. 02-17298 Filed 7-9-02; 8:45 am]

BILLING CODE 4310-55-P